FEDERAL COMMUNICATIONS COMMISSION

47 CFR Part 73

[DA 01-2681; MM Docket Nos. 01-118, 01-119, 01-122; RM-10106, RM-10127, RM-10130]

Radio Broadcasting Services; Grants, Milan, and Shiprock, New Mexico; Van Wert and Columbus Grove, Ohio; Lebanon and Hamilton, Ohio and Fort Thomas, KY

AGENCY: Federal Communications Commission.

ACTION: Final rule.

SUMMARY: In this document, the Commission allots channels in three separate docketed proceedings which were proposed together in a multiple docket Notice of Proposed Rule Making. (1) At the request of KXXQ(FM) Radio Partners, Inc., Channel 264C0 is substituted for Channel 264A at Grants, New Mexico, Channel 264C0 is reallotted from Grants to Milan, New Mexico, and the license for Station KXXQ(FM) is modified to reflect the changes. In addition, Channel 299C1 is substituted for vacant Channel 265C1 at Shiprock, New Mexico to accommodate the changes. See 66 FR 33655 (June 25, 2001). Channel 264C0 is allotted at Milan with a site restriction of 21.2 kilometers (13.2 miles) north of the community. Channel 299C1 is allotted at Shiprock at the original allotment site. Coordinates for Channel 264C0 at Milan are 35-21-19 NL and 107-56-52 WL. Coordinates for Channel 299C1 at Shiprock are 36-46-12 NL and 108-42-49 WL. (2) At the request of Clear Channel Broadcasting Licenses, Inc., we substitute Channel 230B1 for Channel 230A at Van Wert, reallot the channel to Columbus Grove, Ohio, as the community's first local aural transmission service, and modify Clear Channel's construction permit for its unbuilt station to reflect the changes. See 66 FR 33656 (June 25, 2001). Channel 230B1 is allotted at Columbus Grove with a site restriction of 8.1 kilometers (5.0 miles) northwest of the community. Coordinates for Channel 230B1 at Columbus Grove are 40-57-33 NL and 84-08-14 WL. (3) At the joint request of Infinity Radio License Inc. and Caron Broadcasting, we reallot Channel 247A from Lebanon, Ohio to Fort Thomas, Kentucky, as the community's first local aural transmission service, and the modify Station WAQZ(FM)'s license to reflect the change. We also reallot Channel 243B from Hamilton, Ohio to Lebanon, as a replacement channel for the community's first local aural transmission service and modify Station WYGY(FM)'s license to reflect the change. See 66 FR 33657 (June 25, 2001). Channel 247A can be reallotted from Lebanon to Fort Thomas at petitioner's requested site 14.7 kilometers (9.1 miles) north of Fort Thomas. Channel 243B can be reallotted from Hamilton to Lebanon at Station WYGY(FM)'s existing site 13.9 kilometers (8.6 miles) southwest of the community. Coordinates for Channel 247A at Fort Thomas, Kentucky, are 39-11-51 NL and 84-22-56 WL. Coordinates for Channel 243B at Lebanon, Ohio, are 39-21-11 NL and 84-19-30 WL.

DATES: Effective December 31, 2001.

FOR FURTHER INFORMATION CONTACT: Victoria M. McCauley, Mass Media Bureau, (202) 418-2180.

SUPPLEMENTARY INFORMATION: This is a synopsis of the Commission's Report and Order, MM Docket Nos. 01-118, 01-119, and 01-122, adopted November 7, 2001, and released November 16, 2001. The full text of this document is available for public inspection and copying during regular business hours at the FCC Reference Information Center, Portals II, 445 12th Street, SW., Room CY-A257, Washington, DC, 20554. This document may also be purchased from the Commission's duplicating contractor, Qualex International, Portals II, 445 12th Street, SW, Room CY-B402, Washington, DC, 20554, telephone 202-863-2893, facsimile 202-863-2898, or via e-mail qualexint@aol.com.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334, and 336.

§ 73.202 [Amended].

2. Section 73.202(b), the Table of FM Allotments under Ohio, is amended by removing Channel 230A at Van Wert adding Columbus Grove, Channel 230B1, and by removing Channel 247A and adding Channel 243B at Lebanon.

3. Section 73.202(b), the Table of FM Allotments under New Mexico, is amended by removing Channel 264A at Grants, adding Milan, Channel 264C0, and removing Channel 265C1 and adding Channel 299C1 at Shiprock.

4. Section 73.202(b), the Table of FM Allotments under Kentucky, is amended by adding Fort Thomas, Channel 247A.

Federal Communications Commission.
John A. Karousos,
Chief, Allocations Branch, Policy and Rules Division, Mass Media Bureau.

[FR Doc. 01-30388 Filed 12-7-01; 8:45 am]

BILLING CODE 6712-01-P